DEPARTMENT OF TRANSPORTATION

Federal Aviation Administration

14 CFR Parts 121 and 129

[Docket No. FAA-2006-24281; Amendment Nos. 121-360A, 129-51A]

RIN 2120-AI05

Aging Airplane Program: Widespread Fatigue Damage; Correction

AGENCY: Federal Aviation Administration, DOT.

ACTION: Final rule; technical amendment; correction.

SUMMARY: The FAA is correcting a technical amendment published May 24, 2012 to a final rule published November 15, 2010. The final rule required design approval holders of certain existing airplanes and all applicants for type certificates of future transport category airplanes to establish a limit of validity of the engineering data that supports the structural maintenance program (hereinafter referred to as LOV). It also required that operators of any affected airplane incorporate the LOV into the maintenance program for that airplane. The technical amendment to the final rule was issued to correct errors, but within its publication, it contained inadvertent errors due to pagination in two tables. This document corrects the errors in those tables.

DATES: This corrective action becomes effective September 7, 2012.

FOR FURTHER INFORMATION CONTACT: For technical questions concerning this action, contact Walter Sippel, ANM-115, Airframe/Cabin Safety Branch, Federal Aviation Administration, 1601 Lind Avenue SW., Renton, WA 98057-3356; telephone (425) 227-2774; facsimile (425) 227-1232; email walter.sippel@faa.gov.

For legal questions concerning this action, contact Doug Anderson, Office of Regional Counsel, Federal Aviation Administration, 1601 Lind Avenue SW., Renton, WA 98057-3356; telephone (425) 227-2166; facsimile (425) 227-1007; email douglas.anderson@faa.gov.

SUPPLEMENTARY INFORMATION:

Background

On May 24, 2012, the FAA published a technical amendment to a final rule. The technical amendment is entitled “Aging Airplane Program: Widespread Fatigue Damage” (77 FR 30877), which corrected a final rule published November 15, 2010 (75 FR 69746).

In that technical amendment, the FAA intended to correct compliance dates of §§ 26.21, 121.1115, and 129.115 for Airbus A310 and A300-600 series airplanes. Upon publication, however, the technical amendment contained inadvertent errors due to pagination in two of the tables.

Accordingly, FAA amends 14 CFR parts 121 and 129 by making the following technical amendments:

PART 121—OPERATING REQUIREMENTS: DOMESTIC, FLAG, AND SUPPLEMENTAL OPERATIONS

1. The authority citation for part 121 continues to read as follows:

Authority: 49 U.S.C. 106(g), 40113, 40119, 41706, 44101, 44701-44702, 44705, 44709-44711, 44713, 44716-44717, 44722, 46105.

2. In § 121.1115, revise the table entitled “Table 1—Airplane Subject to § 26.21” to read as follows:

§ 121.1115 Limit of validity.

* * * * *

Table 1—Airplanes Subject to § 26.21
Airplane model | Compliance date—months after January 14, 2011 | Default LOV [flight cycles (FC) or flight hours (FH)]
Airbus—Existing ¹ Models Only:
A300 B2-1A, B2-1C, B2K-3C, B2-203 | 30 | 48,000 FC
A300 B4-2C, B4-103 | 30 | 40,000 FC
A300 B4-203 | 30 | 34,000 FC
A300-600 Series | 60 | 30,000 FC/67,500 FH
A310-200 Series | 60 | 40,000 FC/60,000 FH
A310-300 Series | 60 | 35,000 FC/60,000 FH
A318 Series | 60 | 48,000 FC/60,000 FH
A319 Series | 60 | 48,000 FC/60,000 FH
A320-100 Series | 60 | 48,000 FC/48,000 FH
A320-200 Series | 60 | 48,000 FC/60,000 FH
A321 Series | 60 | 48,000 FC/60,000 FH
A330-200, -300 Series (except WV050 family) (non enhanced) | 60 | 40,000 FC/60,000 FH
A330-200, -300 Series WV050 family (enhanced) | 60 | 33,000 FC/100,000 FH
A330-200 Freighter Series | 60 | See NOTE.
A340-200, -300 Series (except WV 027 and WV050 family) (non enhanced) | 60 | 20,000 FC/80,000 FH
A340-200, -300 Series WV 027 (non enhanced) | 60 | 30,000 FC/60,000 FH
A340-300 Series WV050 family (enhanced) | 60 | 20,000 FC/100,000 FH
A340-500, -600 Series | 60 | 16,600 FC/100,000 FH
A380-800 Series | 72 | See NOTE.
Boeing—Existing ¹ Models Only:
717 | 60 | 60,000 FC/60,000 FH
727 (all series) | 30 | 60,000 FC
737 (Classics): 737-100, -200, -200C, -300, -400, -500 | 30 | 75,000 FC
737 (NG): 737-600, -700, -700C, -800, -900, -900ER | 60 | 75,000 FC
747 (Classics): 747-100, -100B, -100B SUD, -200B, -200C, -200F, -300, 747SP, 747SR | 30 | 20,000 FC
747-400: 747-400, -400D, -400F | 60 | 20,000 FC
757 | 60 | 50,000 FC
767 | 60 | 50,000 FC
777-200, -300 | 60 | 40,000 FC
777-200LR, 777-300ER | 72 | 40,000 FC
777F | 72 | 11,000 FC
Bombardier—Existing ¹ Models Only:
CL-600: 2D15 (Regional Jet Series 705), 2D24 (Regional Jet Series 900) | 72 | 60,000 FC
Embraer—Existing ¹ Models Only:
ERJ 170 | 72 | See NOTE.
ERJ 190 | 72 | See NOTE.
Fokker—Existing ¹ Models Only:
F.28 Mark 0070, Mark 0100 | 30 | 90,000 FC
Lockheed—Existing ¹ Models Only:
L-1011 | 30 | 36,000 FC
188 | 30 | 26,600 FC
382 (all series) | 30 | 20,000 FC/50,000 FH
McDonnell Douglas—Existing ¹ Models Only:
DC-8, -8F | 30 | 50,000 FC/50,000 FH
DC-9 (except for MD-80 models) | 30 | 100,000 FC/100,000 FH
MD-80 (DC-9-81, -82, -83, -87, MD-88) | 30 | 50,000 FC/50,000 FH
MD-90 | 60 | 60,000 FC/90,000 FH
DC-10-10, -15 | 30 | 42,000 FC/60,000 FH
DC-10-30, -40, -10F, -30F, -40F | 30 | 30,000 FC/60,000 FH
MD-10-10F | 60 | 42,000 FC/60,000 FH
MD-10-30F | 60 | 30,000 FC/60,000 FH
MD-11, MD-11F | 60 | 20,000 FC/60,000 FH
Maximum Takeoff Gross Weight Changes:
All airplanes whose maximum takeoff gross weight has been decreased to 75,000 pounds or below after January 14, 2011, or increased to greater than 75,000 pounds at any time by an amended type certificate or supplemental type certificate | 30, or within 12 months after the LOV is approved, or before operating the airplane, whichever occurs latest | Not applicable.
All Other Airplane Models (TCs and amended TCs) not Listed in Table 2 | 72, or within 12 months after the LOV is approved, or before operating the airplane, whichever occurs latest | Not applicable.
¹ Type certificated as of January 14, 2011.
Note: Airplane operation limitation is stated in the Airworthiness Limitation section.

* * * * *

PART 129—OPERATIONS: FOREIGN AIR CARRIERS AND FOREIGN OPERATORS OF U.S.-REGISTERED AIRCRAFT ENGAGED IN COMMON CARRIAGE

3. The authority citation for part 129 continues to read as follows:

Authority: 49 U.S.C. 1372, 40113, 40119, 44101, 44701-44702, 44705, 44709-44711, 44713, 44716-44717, 44722, 44901-44904, 44906, 44912, 46105, Pub. L. 107-71 sec. 104.

4. In § 129.115, revise the table entitled “Table 1—Airplane Subject to 26.21” to read as follows:

§ 129.115 Limit of validity.

* * * * *

Table 1—Airplanes Subject to § 26.21
Airplane model | Compliance Date—months after January 14, 2011 | Default LOV [flight cycles (FC) or flight hours (FH)]
Airbus—Existing ¹ Models Only:
A300 B2-1A, B2-1C, B2K-3C, B2-203 | 30 | 48,000 FC
A300 B4-2C, B4-103 | 30 | 40,000 FC
A300 B4-203 | 30 | 34,000 FC
A300-600 Series | 60 | 30,000 FC/67,500 FH
A310-200 Series | 60 | 40,000 FC/60,000 FH
A310-300 Series | 60 | 35,000 FC/60,000 FH
A318 Series | 60 | 48,000 FC/60,000 FH
A319 Series | 60 | 48,000 FC/60,000 FH
A320-100 Series | 60 | 48,000 FC/48,000 FH
A320-200 Series | 60 | 48,000 FC/60,000 FH
A321 Series | 60 | 48,000 FC/60,000 FH
A330-200, -300 Series (except WV050 family) (non enhanced) | 60 | 40,000 FC/60,000 FH
A330-200, -300 Series WV050 family (enhanced) | 60 | 33,000 FC/100,000 FH
A330-200 Freighter Series | 60 | See NOTE.
A340-200, -300 Series (except WV 027 and WV050 family) (non enhanced) | 60 | 20,000 FC/80,000 FH
A340-200, -300 Series WV 027 (non enhanced) | 60 | 30,000 FC/60,000 FH
A340-300 Series WV050 family (enhanced) | 60 | 20,000 FC/100,000 FH
A340-500, -600 Series | 60 | 16,600 FC/100,000 FH
A380-800 Series | 72 | See NOTE.
Boeing—Existing ¹ Models Only:
717 | 60 | 60,000 FC/60,000 FH
727 (all series) | 30 | 60,000 FC
737 (Classics): 737-100, -200, -200C, -300, -400, -500 | 30 | 75,000 FC
737 (NG): 737-600, -700, -700C, -800, -900, -900ER | 60 | 75,000 FC
747 (Classics): 747-100, -100B, -100B SUD, -200B, -200C, -200F, -300, 747SP, 747SR | 30 | 20,000 FC
747-400: 747-400, -400D, -400F | 60 | 20,000 FC
757 | 60 | 50,000 FC
767 | 60 | 50,000 FC
777-200, -300 | 60 | 40,000 FC
777-200LR, 777-300ER | 72 | 40,000 FC
777F | 72 | 11,000 FC
Bombardier—Existing ¹ Models Only:
CL-600: 2D15 (Regional Jet Series 705), 2D24 (Regional Jet Series 900) | 72 | 60,000 FC
Embraer—Existing ¹ Models Only:
ERJ 170 | 72 | See NOTE.
ERJ 190 | 72 | See NOTE.
Fokker—Existing ¹ Models Only:
F.28 Mark 0070, Mark 0100 | 30 | 90,000 FC
Lockheed—Existing ¹ Models Only:
L-1011 | 30 | 36,000 FC
188 | 30 | 26,600 FC
382 (all series) | 30 | 20,000 FC/50,000 FH
McDonnell Douglas—Existing ¹ Models Only:
DC-8, -8F | 30 | 50,000 FC/50,000 FH
DC-9 (except for MD-80 models) | 30 | 100,000 FC/100,000 FH
MD-80 (DC-9-81, -82, -83, -87, MD-88) | 30 | 50,000 FC/50,000 FH
MD-90 | 60 | 60,000 FC/90,000 FH
DC-10-10, -15 | 30 | 42,000 FC/60,000 FH
DC-10-30, -40, -10F, -30F, -40F | 30 | 30,000 FC/60,000 FH
MD-10-10F | 60 | 42,000 FC/60,000 FH
MD-10-30F | 60 | 30,000 FC/60,000 FH
MD-11, MD-11F | 60 | 20,000 FC/60,000 FH
Maximum Takeoff Gross Weight Changes:
All airplanes whose maximum takeoff gross weight has been decreased to 75,000 pounds or below after January 14, 2011, or increased to greater than 75,000 pounds at any time by an amended type certificate or supplemental type certificate | 30, or within 12 months after the LOV is approved, or before operating the airplane, whichever occurs latest | Not applicable.
All Other Airplane Models (TCs and amended TCs) not Listed in Table 2 | 72, or within 12 months after the LOV is approved, or before operating the airplane, whichever occurs latest | Not applicable.
¹ Type certificated as of January 14, 2011.
Note: Airplane operation limitation is stated in the Airworthiness Limitation section.

* * * * *

Issued in Washington, DC, on August 24, 2012.
Lirio Liu,
Acting Director, Office of Rulemaking.

[FR Doc. 2012-22090 Filed 9-6-12; 8:45 am]

BILLING CODE 4910-13-P